UNIFIED CARRIER REGISTRATION PLAN

Sunshine Act Meeting

TIME AND DATE: July 23, 2020, from Noon to 2:00 p.m., Eastern time.

PLACE: This meeting will be accessible via conference call and via Zoom Meeting and Screenshare. Any interested person may call (i) 1-929-205-6099 (U.S. Toll) or 1-669-900-6833 (U.S. Toll) or (ii) 1-877-853-5247 (U.S. Toll Free) or 1-888-788-0099 (U.S. Toll Free), Meeting ID: 952 5849 8325, to listen and participate in this meeting. The website to participate via Zoom Meeting and Screenshare is https://kellen.zoom.us/j/95258498325.

STATUS: This meeting will be open to the public.

MATTERS TO BE CONSIDERED: The Unified Carrier Registration Plan Finance Subcommittee (the “Subcommittee”) will continue its work in developing and implementing the Unified Carrier Registration Plan and Agreement. The subject matter of this meeting will include:

Proposed Agenda

I. Call to Order—UCR Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—Subcommittee Chair

For Discussion and Possible Subcommittee Action

The Subcommittee Agenda will be reviewed, and the Subcommittee will consider adoption.

Ground Rules

Subcommittee action only to be taken in designated areas on agenda

IV. Approval of Minutes From January 27, 2020 Meeting—Subcommittee Chair

For Discussion and Possible Subcommittee Action

• Draft minutes from the January 27, 2020 Finance Subcommittee meeting will be reviewed. The Subcommittee will consider action to approve.

V. Proposed Policy for UCR Board Fee Recommendations—UCR Depository Manager

For Discussion and Possible Subcommittee Action

The UCR Depository Manager will present a draft of a proposed policy regarding recommendations by the Board to the Secretary of the U.S. Department of Transportation regarding possible UCR fee changes that the Board may recommend from time-to-time as conditions warrant. The policy will include a general-purpose description, guidelines for interacting with the Federal Motor Carrier Safety Administration (FMCSA), timelines regarding submission of fee change recommendations, and the methodology that will be used to quantify fee changes. The Subcommittee may take action to recommend adoption of the proposed policy to the Board.

VI. Proposed Amendment to Refunds Procedure—UCR Depository Manager

For Discussion and Possible Subcommittee Action

The UCR Depository Manager will present a draft of a proposed amendment regarding the issuance of refunds, especially when related to refunding permitting services that register motor carriers without consent. The Subcommittee may take action to recommend adoption of the proposed amendment to the Board.

VII. UCR Investments—UCR Depository Manager

For Discussion and Possible Subcommittee Action

Representatives from the Bank of North Dakota and Truist Bank (formerly SunTrust) will discuss the current investment landscape with the Subcommittee and potentially offer recommendations for investment options within current economic conditions. (Each presentation to last approximately 15 minutes). The Subcommittee may take action to recommend potential investment options to the Board.

VIII. Certificates of Deposit—UCR Depository Manager

For Discussion and Possible Subcommittee Action

The UCR Depository Manager will provide a report on activities required to redeem one certificate of deposit at the Bank of North Dakota scheduled to mature on August 5, 2020 as well as discuss the need to reinvest proceeds from the matured CD. The Subcommittee may take action to recommend adoption of the CD reinvestment proposal to the Board.

IX. Board Insurance—UCR Depository Manager

For Discussion and Possible Subcommittee Action

The UCR Depository Manager will provide an update on plans to procure insurance for the UCR Board and Officers (Directors and Officers and Cybersecurity policies). The Subcommittee may take action to recommend adoption of the proposal to the Board.

X. Review 2020 Administrative Expenses Through June 30, 2020—UCR Depository Manager

The UCR Depository Manager will present the administrative costs incurred for the period of January 1, 2020 through June 30, 2020, compare to the budget for the same time-period, and discuss all significant variances.

XI. Review 2021 Proposed Administrative Budget—UCR Depository Manager

For Discussion and Possible Subcommittee Action

The UCR Depository Manager will present the preliminary budget for administrative operating expenses planned during the calendar year 2021. The Subcommittee may take action to recommend adoption of a 2021 proposed administrative budget to the Board.

XII. Review 2022-2023 Proposed Administrative Budgets—UCR Depository Manager

For Discussion and Possible Subcommittee Action

The UCR Depository Manager will present the preliminary budgets for administrative operating expenses planned during the calendar years 2022-2023 that will be used to establish the amount of the Administrative Reserve. The Subcommittee may take action to recommend adoption of a 2022-2023 proposed administrative budget to the Board.

XIII. Update on Current Financial Reserve Funds—UCR Depository Manager

The UCR Depository Manager will discuss the two financial reserves authorized by the Board, compare them to current bank account balances, and address any over/under-funding of the accounts including plans to address funding differences.

XIV. Final 2020 Distributions to States—UCR Depository Manager

For Discussion and Possible Subcommittee Action

The UCR Depository Manager will present a proposed plan for the final distribution to states for the 2020 registration year expected to be completed in August. The Subcommittee may take action to recommend to the Board adoption of final 2020 distributions to the states.

XV. Other Business—Subcommittee Chair

The Subcommittee Chair will call for any other items the Subcommittee members would like to discuss.

XVI. Adjournment—Subcommittee Chair

The Subcommittee Chair will adjourn the meeting.

The agenda will be available no later than 5:00 p.m. Eastern time, July 14, 2020 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2020-15605 Filed 7-15-20; 11:15 am]

BILLING CODE 4910-YL-P